DEPARTMENT OF ENERGY

[FE Docket No. 03-30-NG]

Transalta Chihuahua S.A. DE C.V.; Order Granting Long-Term Authority To Export Natural Gas to Mexico

AGENCY: Office of Fossil Energy, DOE.

ACTION: Notice of Order.

SUMMARY: The Office of Fossil Energy (FE) gives notice that on July 15, 2003, it issued DOE/FE Order No. 1877 granting TransAlta Chihuahua (TAC) authority to import up to 49,500 thousand cubic feet per day of natural gas to Mexico, beginning on July 15, 2003, and extending through July 15, 2008. The natural gas will be export under a Fuel Supply Contract with Cynergy Marketing & Trading, LP and will be used to as fuel for TAC's natural gas-fired power facility near Ciudad Juárez, Chihuahua, Mexico.

This Order may be found on the FE Web site at http://www.fe.doe.gov (select gas regulation), or on the electronic bulletin board at (202) 586-7853. It is also available for inspection and copying in the Office of Natural Gas & Petroleum Import & Export Activities Docket Room, 3E-033, Forrestal Building, 1000 Independence Avenue, SW., Washington, DC 20585-0334, (202) 586-9478. The Docket Room is open between the hours of 8 a.m. and 4:30 p.m., Monday through Friday, except Federal holidays.

Issued in Washington, DC, August 12, 2003.
Clifford Tomaszewski,
Manager, Natural Gas Regulation, Office of Natural Gas & Petroleum Import & Export Activities, Office of Fossil Energy.

[FR Doc. 03-21023 Filed 8-15-03; 8:45 am]

BILLING CODE 6450-01-P